DEPARTMENT OF LABOR

Employment and Training Administration

[TA-W-55,536]

Hitachi Magnetics Corporation, Edmore, MI; Notice of Termination of Investigation

Pursuant to section 221 of the Trade Act of 1974, an investigation was initiated on September 1, 2004 in response to a worker petition which was filed by a company official on behalf of workers at Hitachi Magnetics Corporation, Edmore, Michigan.

The petitioning group of workers is covered by an active trade adjustment assistance certification (TA-W-50,272) which remains in effect through January 3, 2005. Consequently, further investigation in this case would serve no purpose, and the investigation has been terminated.

Signed in Washington, DC this 7th day of September, 2004.
Elliott S. Kushner,
Certifying Officer, Division of Trade Adjustment Assistance.

[FR Doc. E4-2340 Filed 9-22-04; 8:45 am]

BILLING CODE 4510-30-P